DEPARTMENT OF HEALTH AND HUMAN SERVICES

Centers for Medicare & Medicaid Services

42 CFR Part 433

State Fiscal Administration

CFR Correction

In Title 42 of the Code of Federal Regulations, Parts 430 to 481, revised as of October 1, 2012, on page 98, in § 433.50, paragraphs (a)(1)(i) and (a)(1)(ii) are removed.

[FR Doc. 2013-26781 Filed 11-6-13; 8:45 am]

BILLING CODE 1505-01-D